DEPARTMENT OF HOUSING AND URBAN DEVELOPMENT

[Docket No. FR-5642-D-01]

Consolidated Delegation of Authority for the Office of Community Planning and Development

AGENCY: Office of the Secretary, HUD.

ACTION: Notice of delegation of authority.

SUMMARY: This notice updates, clarifies, and consolidates delegations of authority from the Secretary to the Assistant Secretary for Community Planning and Development, the General Deputy Assistant Secretary for Community Planning and Development, and the Deputy Assistant Secretary for Special Needs Programs.

DATES: Effective Date: May 16, 2012.

FOR FURTHER INFORMATION CONTACT: David H. Enzel, Director, Office of Technical Assistance and Management, Department of Housing and Urban Development, 451 7th Street SW., Room 7228, Washington, DC 20410-7000; telephone number 202-402-5557. (This is not a toll-free number.) For those needing assistance, this number may be accessed through TTY by calling the toll-free Federal Relay Service number at 1-800-877-8339.

SUPPLEMENTARY INFORMATION: Today's Federal Register notice updates, clarifies, and consolidates into one notice the authority delegated by the Secretary to the Assistant Secretary for Community Planning and Development, the General Deputy Assistant Secretary for Community Planning and Development, and the Deputy Assistant Secretary for Special Needs Programs. Clarification of program authorities under existing CPD delegations includes the Neighborhood Stabilization Programs, Community Development Block Grant (CDBG) disaster recovery grants, and homeless assistance programs under the McKinney-Vento Homeless Assistance Act. This notice supersedes all previous delegations to the Assistant Secretary for Community Planning and Development and the General Deputy Assistant Secretary for Community Planning and Development, including the delegation published on October 18, 2011 (76 FR 64362). Published elsewhere in today's Federal Register is the order of succession for the Office of Community Planning and Development.

Section A. Authority Delegated

Except as provided in Section B, the Secretary of HUD delegates to the Assistant Secretary for Community Planning and Development, the General Deputy Assistant Secretary for Community Planning and Development, and the Deputy Assistant Secretary for Special Needs Programs the authority of the Secretary with respect to the programs and matters listed below in this Section A. Only the Assistant Secretary is delegated the authority to issue or waive regulations.

1. The AIDS Housing Opportunity Act, Title VIII, Subtitle D of the Cranston-Gonzalez National Affordable Housing Act, Public Law 101-625, 104 Stat. 4079 (1990) (codified as amended at 42 U.S.C. 12901-12912); 24 CFR part 574;

2. The Base Closure, Base Closure Community Redevelopment and Homeless Assistance Act of 1994, Public Law 103-421, 108 Stat. 4346 (codified as amended at 10 U.S.C. 2687 note); 24 CFR part 586;

3. Capacity Building for Community Development and Affordable Housing Grants, Section 4 of the HUD Demonstration Act of 1993, Public Law 103-120, 107 Stat. 1148 (codified as amended at 42 U.S.C. 9816 note);

4. Comprehensive Housing Affordability Strategies (CHAS), Title I of the Cranston-Gonzalez National Affordable Housing Act, Public Law 101-625, 104 Stat. 4079 (1990) (codified as amended at 42 U.S.C. 12701 et seq.); 24 CFR part 91;

5. Economic Development Initiative grants, as provided for in annual HUD appropriations acts (e.g., the Consolidated Appropriations Resolution, Fiscal Year 2003, Pub. L. 108-7, 117 Stat. 11 (2003));

6. Urban Empowerment Zones (EZ), as authorized under title 26, subtitle A, chapter 1, subchapter U of the Internal Revenue Code (codified as amended at 26 U.S.C. 1391 et seq.); 24 CFR parts 597 and 598;

7. The HOME Investment Partnerships Act, Title II of the Cranston-Gonzalez National Affordable Housing Act, Public Law 101-625, 104 Stat. 4079 (1990) (codified as amended at 42 U.S.C. 12721 et seq.); 24 CFR part 92;

8. The Loan Guarantee Recovery Fund under Section 4 of the Church Arson Prevention Act of 1996, Public Law 104-155, 110 Stat. 1392 (codified at 18 U.S.C. 241 note); 24 CFR part 573;

9. Neighborhood Initiatives grants specifically designated in annual HUD appropriations acts (e.g., the Consolidated Appropriations Act 2010, Pub. L. 111-117, 123 Stat. 3034 (2009));

10. The Homelessness Prevention and Rapid Re-Housing Program (HPRP), as authorized under the Homelessness Prevention Fund heading of Division A, Title XII of the American Recovery and Reinvestment Act of 2009, Public Law 111-5, 123 Stat. 115;

11. The Housing Trust Fund (HTF), Section 1338 of the Federal Housing Enterprises Financial Safety and Soundness Act of 1992, added by Section 1131 of Public Law 110-289, 122 Stat. 2654 (codified at 12 U.S.C. 4568);

12. Rural Innovation Fund grants as provided for in annual HUD appropriations act(s) (e.g., the Consolidated Appropriations Act 2010, Pub. L. 111-117, 123 Stat. 3084 (2009));

13. The Tax Credit Assistance Program (TCAP), as authorized under the HOME Investments Partnerships Program heading of Division A, Title XII of the American Recovery and Reinvestment Act of 2009, Public Law 111-5, 123 Stat. 155, 220-21;

14. The Self-Help Housing Opportunity Program (SHOP) under section 11 of the Housing Opportunity Program Extension Act of 1996, Public Law 104-120, 110 Stat. 834 (codified at 42 U.S.C. 12805 note);

15. Technical Assistance and Capacity Building awards authorized under any program or matter delegated under Section A (e.g., section 107 of the Housing and Community Development Act of 1987, Public Law 100-242, 101 Stat. 1815 (1988)) and as provided for in annual and supplemental HUD appropriations acts (e.g., the Consolidated Appropriations Act 2010, Public Law 111-117, 123 Stat. 3093 (2009));

16. Title I of the Housing and Community Development Act of 1974, Public Law 93-383, 88 Stat. 633 (codified as amended at 42 U.S.C. 5301 et seq.); 24 CFR part 570, including the following:

a. The Community Development Block Grant (CDBG) program;

b. The Section 108 loan guarantee program;

c. Economic development grants pursuant to Section 108(q);

d. Neighborhood Stabilization programs under the Housing and Economic Recovery Act of 2008, Public Law 110-289, 122 Stat. 2850; Title XII of Division A of the American Recovery and Reinvestment Act of 2009, Public Law 111-5, 123 Stat. 115; and Section1497 of the Wall Street Reform and Consumer Protection Act of 2010, Public Law 111-203, 124 Stat. 1376 (codified as amended at 42 U.S.C. 5301 note);

e. CDBG Disaster Recovery Grants as provided for in annual and supplemental HUD appropriations acts; and

f. Appalachian Regional Commission grants pursuant to section 214 of the Appalachian Regional Development Act of 1965, Public Law 89-4, 79 Stat. 5 (codified as amended at 40 U.S.C. 14507) and consistent with the CDBG program authorized under Title I of the Housing and Community Development Act of 1974, Public Law 93-383, 88 Stat. 633 (codified as amended at 42 U.S.C. 5301 et seq.).

17. Title IV of the McKinney-Vento Homeless Assistance Act, Public Law 100-77, 101 Stat. 482 (1987) (codified as amended at 42 U.S.C. 11301 et seq.), renamed by an Act of October 30, 2000, Public Law 106-400, 114 Stat. 1675 (2000), including the following:

a. The Emergency Shelter Grants/Emergency Solutions Grants program, 24 CFR part 576;

b. The Supportive Housing Program, 24 CFR part 583;

c. The Shelter Plus Care Program, 24 CFR part 582;

d. The Moderate Rehabilitation for Single Room Occupancy program, 24 CFR part 882, Subpart H;

e. The Continuum of Care program; and

f. The Rural Housing Stability Assistance program.

18. Title V of the McKinney-Vento Homeless Assistance Act, Public Law 100-77, 101 Stat. 482 (1987) (codified as amended 42 U.S.C. 11411 et seq.), renamed by an Act of October 30, 2000, Pub. L. 106-400, 114 Stat. 1675 (2000), 24 CFR part 581.

19. The Veterans Homelessness Prevention Demonstration program, as provided for in annual HUD appropriations act(s) (e.g., Omnibus Appropriations Act, 2009, Pub. L. 111-8, 123 Stat. 524 (2009)).

20. Overall departmental responsibility for compliance with the Uniform Relocation Assistance and Real Property Acquisition Policies Act of 1970, Public Law 91-646, 84 Stat. 1894 (1971) (codified as amended at 42 U.S.C. 4601 et seq.); 49 CFR part 24 (For departmental programs, only the Assistant Secretary for Community Planning and Development is delegated the authority to exercise the federal agency waiver authority provided under 49 CFR 24.7).

21. Overall departmental responsibility for compliance with the National Environmental Policy Act of 1969, Public Law 91-190, 83 Stat. 852 (1970) (codified as amended at 42 U.S.C. 4321-4347), and the related laws and authorities cited in 24 CFR 50.4, including (with regard to the Assistant Secretary for Community Planning and Development) the authority to issue and to waive, or approve exceptions or establish criteria for exceptions from provisions of, 24 CFR parts 50, 51, 55, and 58.

22. Certain Office of Community Planning and Development programs that are no longer authorized for funding (or future funding is not anticipated), but whose administration must continue until all departmental responsibilities are discharged and finally terminated. These programs, as of May 2012, include the following:

a. The Slum Clearance and Urban Renewal program under Title I of the Housing Act of 1949, Public Law 81-171, 63 Stat. 413 and any program which is superseded by, or inactive by reason of Title I of the Housing and Community Development Act of 1974, Public Law 93-383, 88 Stat. 633 (codified as amended at 42 U.S.C. 5316);

b. Area-wide grants, inequities grants, disaster grants and the authority to concur in final approval actions regarding innovative grants under section 107 of Title I of the Housing and Community Development Act of 1974, Public Law 93-383, 88 Stat. 633 (repealed 1981);

c. Urban Development Action grants under Title I of the Housing and Community Development Act of 1974, Public Law 93-383, 88 Stat. 633 (codified as amended at 42 U.S.C. 5318);

d. The Rental Rehabilitation Program, United States Housing Act of 1937, § 17, Public Law 98-181, 97 Stat. 1196 (repealed 1990); 24 CFR part 511;

e. The Section 312 Rehabilitation Loan Program, Housing Act of 1964, § 312, Public Law 88-560, 78 Stat. 769 (codified at 42 U.S.C. 1452(b)); 24 CFR part 510;

f. The Urban Homesteading Program, Housing and Community Development Act of 1974, § 810, Public Law 93-383, 88 Stat. 633 (repealed 1990);

g. Enterprise Zone Program under Title VII of the Housing and Community Development Act of 1987, Public Law 100-242, 101 Stat. 1815 (1988) (codified as amended at 42 U.S.C. 11501 et seq.);

h. Grants for urban Empowerment Zones (EZ) as provided for in annual HUD appropriations acts (e.g., Consolidated Appropriations Resolution, Fiscal Year 2003, Public Law 108-7, 117 Stat. 11 (2003));

i. HUD's Homeownership Zone Initiative (HOZ) grants as provided for in section 205 of the Departments of Veterans Affairs and Housing and Urban Development, and Independent Agencies Appropriations Act, 1997, Public Law 104-204, 110 Stat. 2874 (1996) and funded with recaptured Nehemiah grants authorized under Title VI of the Housing and Community Development Act of 1987, Public Law 100-242, 101 Stat. 1815 (1988) (codified at 12 U.S.C. 1715l note);

j. The Innovative Homeless Initiatives Demonstration program under the HUD Demonstration Act of 1993, Public Law 103-120, 107 Stat. 1144;

k. The HOPE for Homeownership of Single-family Housing (HOPE 3) program, Title IV, Subtitle C of the Cranston-Gonzalez National Affordable Housing Act, Public Law 101-625, 104 Stat. 4079 (1990) (codified at 42 U.S.C. 12891);

l. New Communities Program, Section 413 of the Housing and Urban Development Act of 1968, Public Law 90-448, 82 Stat. 476 (repealed 1983), Section 726 of the Housing and Urban Development Act of 1970, Public Law 91-609 (repealed 1983), 84 Stat. 1784, Section 474 of the Housing and Urban-Rural Recovery Act of 1983, Public Law 98-181, 97 Stat. 1237 (codified at 12 U.S.C. 1701g-5b), and any other functions, powers, and duties that may affect the liquidation of the New Communities program;

m. Rural Housing and Economic Development grants specifically designated originally in the Fiscal Year 1998 HUD Appropriations Act, Public Law 105-65, 111 Stat. 1344 and subsequent annual HUD appropriations acts;

n. Renewal Communities (RC), as authorized under title 26, subtitle A, chapter 1, subchapter X of the Internal Revenue Code (codified as amended at 26 U.S.C. 1400E et seq.); 24 CFR part 599.

o. The Youthbuild Program, Title IV, Subtitle D of the Cranston-Gonzalez National Affordable Housing Act, Public Law 101-625, 104 Stat. 4079 (1990) (repealed 2006); 24 CFR part 585; and Youthbuild Transfer Act (TA) as authorized under Title IV of the Cranston-Gonzalez National Affordable Housing Act, as amended by the Housing and Community Development Act of 1992, Public Law 102-550, 106 Stat. 3723 (1992) (repealed 2006); and

p. All programs consolidated in the Revolving Fund (Liquidating Programs) established pursuant to Title II of the Independent Offices Appropriations Act, Public Law 98-45, 97 Stat. 223 (1983)(codified as amended at 12 U.S.C. 1701g-5), including all authority of the Secretary with respect to functions, administration, and management of the Revolving Fund (Liquidating Programs). Only the Assistant Secretary is the responsible official for allotments in the Revolving Fund (Liquidating Programs); and

23. Suspensions, and/or limited denial of participations under 2 CFR part 2424 with the concurrence of the General Counsel, or such other official as may be designated by the General Counsel.

Section B. Authority Excepted

There is excepted from the authority delegated under Section A:

1. The power to sue and be sued;

2. Under Title I of the Housing and Community Development Act of 1974, Public Law 93-383, 88 Stat. 633 (codified as amended at 42 U.S.C. 5301 et seq.):

a. The power to administer the Indian Community Development Block Grant program, for which the authority has been delegated to the Assistant Secretary for Public and Indian Housing;

b. The power to administer section 107 programs delegated to the Assistant Secretary for Policy Development and Research;

c. The power to issue obligations for purchase by the Secretary of the Treasury under section 108(g) of the Housing and Community Development Act (42 U.S.C. 5308); and

d. The power and authority of the Secretary with respect to nondiscrimination under section 109 may be exercised only with the advice of the Assistant Secretary for Fair Housing and Equal Opportunity.

3. Under the HOME Investment Partnerships Act, Title II of the Cranston-Gonzalez National Affordable Housing Act, Public Law 101-625, 104 Stat. 4079 (1990) (codified as amended at 42 U.S.C. 12721 et seq.), the power to administer grants to Indian tribes, for which the authority has been delegated to the Assistant Secretary for Public and Indian Housing;

4. For programs noted in Section A.22 of this delegation that are no longer authorized for funding:

a. The power to establish interest rates; and

b. The power to issue notes or obligations for purchase by the Secretary of the Treasury; and

Section C. Authority To Redelegate

The Assistant Secretary may not redelegate the authority to issue or waive regulations. The Assistant Secretary, the General Deputy Assistant Secretary for Community Planning and Development, and the Deputy Assistant Secretary for Special Needs Programs are authorized to redelegate to employees of the Department any other authority delegated under Section A. Redelegated authority to CPD Deputy Assistant Secretaries or other CPD program officials does not supersede the authority of the Assistant Secretary as designee of the Secretary.

Section D. Delegations Superseded

This notice supersedes all prior delegations of authority from the Secretary to the Assistant Secretary, the General Deputy Assistant Secretary for Community Planning and Development, and the Deputy Assistant Secretary for Grant Programs.

Authority: Section 7(d) of the Department of Housing and Urban Development Act, 42 U.S.C. 3535(d).

Dated: May 16, 2012.
Shaun Donovan,
Secretary of Housing and Urban Development.

[FR Doc. 2012-13093 Filed 5-29-12; 8:45 am]

BILLING CODE 4210-67-P